DEPARTMENT OF ENERGY

Federal Energy Regulatory Commission

Combined Notice of Filings #1

Take notice that the Commission received the following electric corporate filings:

Docket Numbers: EC13-70-000

Applicants: Dynegy Danskammer, L.L.C.

Description: Application for Approval under Section 203 of the Federal Power Act and Request for Expedited Action.

Filed Date: 1/29/13

Accession Number: 20130129-5202

Comments Due: 5 p.m. ET 2/19/13

Take notice that the Commission received the following electric rate filings:

Docket Numbers: ER11-2855-005; ER11-2856-005; ER11-2857-005; ER10-2722-003; ER10-2787-003; ER10-2532-003; ER10-2488-006

Applicants: Avenal Park LLC, Sand Drag LLC, Sun City Project LLC, Eurus Combine Hills I LLC, Eurus Combine Hills II LLC, Crescent Ridge LLC, Oasis Power Partners, LLC

Description: Notice of Change in Status of Avenal Park LLC, et al.

Filed Date: 1/29/13

Accession Number: 20130129-5196

Comments Due: 5 p.m. ET 2/19/13

Docket Numbers: ER11-3731-004

Applicants: LWP Lessee, LLC

Description: Amendment to December 26, 2012 Notice of Non-Material Change in Status of LWP Lessee, LLC.

Filed Date: 1/18/13

Accession Number: 20130118-5304

Comments Due: 5 p.m. ET 2/8/13

Docket Numbers: ER13-685-001

Applicants: Public Service Company of New Mexico

Description: Addendum to Filing in Docket ER13-685-001 to be effective N/A.

Filed Date: 1/30/13

Accession Number: 20130130-5000

Comments Due: 5 p.m. ET 2/20/13

Docket Numbers: ER13-821-000

Applicants: Scrubgrass Generating Company, L.P.

Description: Scrubgrass Generating Company, L.P. to be effective 3/30/2013.

Filed Date: 1/29/13

Accession Number: 20130129-5092

Comments Due: 5 p.m. ET 2/19/13

Docket Numbers: ER13-822-000

Applicants: Niagara Mohawk Power Corporation, New York Independent System Operator, Inc.

Description: SECI Agreement no. 923 between NiMo/New Athens Generating Company to be effective 3/31/2013.

Filed Date: 1/29/13

Accession Number: 20130129-5094

Comments Due: 5 p.m. ET 2/19/13

Docket Numbers: ER13-823-000

Applicants: Castleton Commodities Merchant Trading L.P.

Description: Notice of Succession to be effective 1/1/2013.

Filed Date: 1/29/13

Accession Number: 20130129-5123

Comments Due: 5 p.m. ET 2/19/13

Docket Numbers: ER13-824-000

Applicants: Southwest Power Pool, Inc.

Description: Revisions to Attachment X, Article 3 and Appendix E to be effective 3/30/2013.

Filed Date: 1/29/13

Accession Number: 20130129-5177

Comments Due: 5 p.m. ET 2/19/13

Docket Numbers: ER13-825-000

Applicants: ISO New England Inc., Holyoke Gas & Electric Department

Description: ISO New England Inc. and The City of Holyoke Gas and Electric Department submit a Notice of Cancellation of Small Generator Interconnection Agreement.

Filed Date: 1/30/13

Accession Number: 20130130-5100

Comments Due: 5 p.m. ET 2/20/13

Take notice that the Commission received the following electric securities filings:

Docket Numbers: ES13-16-000

Applicants: ITC Great Plains, LLC

Description: Application pursuant to Section 204 of the Federal Power Act and Part 34 of the regulations of the Federal Energy Regulatory Commission of ITC Great Plains, LLC for authorization to issue debt securities.

Filed Date: 1/29/13

Accession Number: 20130129-5200

Comments Due: 5 p.m. ET 2/19/13

Take notice that the Commission received the following land acquisition reports:

Docket Numbers: LA12-4-000

Applicants: Alabama Electric Marketing, LLC, Big Sandy Peaker Plant, LLC, California Electric Marketing, LLC, Crete Energy Venture, LLC, CSOLAR IV South, LLC, High Desert Power Project, LLC, Kiowa Power Partners, LLC, Lincoln Generating Facility, LLC, New Covert Generating Company, LLC, New Mexico Electric Marketing, LLC, Rolling Hills Generating, L.L.C., Tenaska Alabama Partners, L.P., Tenaska Alabama II Partners, L.P., Tenaska Frontier Partners, Ltd., Tenaska Gateway Partners, Ltd., Tenaska Georgia Partners, L.P., Tenaska Power Management, LLC, Tenaska Power Services Co., Tenaska Virginia Partners, L.P., Texas Electric Marketing, LLC, TPF Generation Holdings, LLC, Wolf Hills Energy, LLC

Description: Quarterly Land Acquisition Report of Tenaska MBR Sellers.

Filed Date: 1/29/13

Accession Number: 20130129-5198

Comments Due: 5 p.m. ET 2/19/13

Docket Numbers: LA12-4-000

Applicants: Astoria Generating Company, L.P.

Description: Quarterly Land Acquisition Report of Astoria Generating Company, L.P.

Filed Date: 1/30/13

Accession Number: 20130130-5033

Comments Due: 5 p.m. ET 2/20/13

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 30, 2013.
Nathaniel J. Davis, Sr.,
Deputy Secretary.

[FR Doc. 2013-02656 Filed 2-5-13; 8:45 am]

BILLING CODE 6717-01-P